DEPARTMENT OF AGRICULTURE

Agricultural Marketing Service

7 CFR Part 1160

[Docket No. DA-04-02]

Section 610 Review: Fluid Milk Promotion Program

AGENCY: Agricultural Marketing Service, USDA.

ACTION: Confirmation of regulations.

SUMMARY: This document summarizes the results of an Agriculture Marketing Service (AMS) review of the Fluid Milk Promotion Program under the criteria contained in Section 610 of the Regulatory Flexibility Act (RFA). Based upon its review, AMS has determined that the Order should be continued without change.

FOR FURTHER INFORMATION CONTACT: Interested persons may obtain a copy of the review. Requests for copies should be sent to David Jamison, Branch Chief, Promotion and Research Branch, Dairy Programs, Stop 0233—Room 2958, 1400 Independence Avenue, SW., Washington, DC 20250-0231, (202) 720-6967, e-mail: David.Jamison2@usda.gov.

SUPPLEMENTARY INFORMATION: The Fluid Milk Promotion Act of 1990 (Fluid Milk Act) (7 U.S.C. Section 6401 et seq.), authorized the Fluid Milk Promotion Order (Order) (7 CFR part 1160), a national processor program for fluid milk promotion and education. The program's objective is to educate Americans about the benefits of milk, increase fluid milk consumption, and maintain and expand markets and uses for fluid milk products in the contiguous 48 States and the District of Columbia.

The program became effective on December 10, 1993, when the Order was issued. Processors marketing more than 3,000,000 pounds of fluid milk per month, excluding those fluid milk products delivered to the residence of a consumer, fund this program through a 20-cent per hundredweight assessment on fluid milk processed and marketed in consumer-type packages in the contiguous 48 States and the District of Columbia.

The Order provides for the establishment of the Fluid Milk Board, which is composed of 20 members appointed by the Secretary of Agriculture. Fifteen members are fluid milk processors who each represent a separate geographical region, and five are at-large members. Of the five at-large members, at least three must be fluid milk processors and at least one must be from the general public. The members of the Fluid Milk Board serve 3-year terms and are eligible to be appointed to two consecutive terms.

Currently, there are approximately 100 fluid milk processors subject to the provisions of the Fluid Milk Act. Processors that process less than 3,000,000 pounds of milk per month, excluding those fluid milk products delivered directly to the place of residence of a consumer, are exempt from this program. AMS provides federal oversight of the Fluid Milk Program.

A Notice of Review and Request for Written Comments was published in the Federal Register on March 30, 2004, (69 FR 16508). No comments were received.

The purpose of the review is to determine whether the Order should be continued without change, amended, or rescinded (consistent with the objectives of the RFA) to minimize the impacts on small entities. In conducting this review, AMS considered the following factors: (1) The continued need for the Fluid Milk Promotion Order (Order); (2) the nature of complaints or comments received from the public concerning the Order; (3) the complexity of the Order; (4) the extent to which the Order overlaps, duplicates, or conflicts with other Federal rules, and, to the extent feasible, with State and local governmental rules; and (5) the length of time since the Order has been evaluated or the degree to which technology, economic conditions, or other factors have changes in the area affected by the Order.

The Order is not unduly complex, and AMS has not identified regulations that duplicate, overlap, or conflict with the Order. Over the years, changes to the regulations of the Order have been made to reflect current industry operating practices and to solve current industry problems to the extent possible. The Order is independently evaluated every year to determine the effectiveness of its programs and the results are reported annually to Congress. The Department has not received any complaints or comments from the public regarding the Fluid Milk Act, Order, or the regulations issued under the Order.

Based upon the review, AMS has determined that the Order should be continued without change. AMS plans to continue working with the dairy industry in maintaining an effective program.

Dated: March 4, 2005.
Kenneth C. Clayton,
Acting Administrator, Agricultural Marketing Service.

[FR Doc. 05-4581 Filed 3-8-05; 8:45 am]

BILLING CODE 3410-02-P